SMALL BUSINESS ADMINISTRATION

[Declaration of Disaster #P033; Amdt. #1]

State of Arkansas

In accordance with notices received from the Department of Homeland Security—Federal Emergency Management Agency, effective May 18, 2004, and May 21, 2004, the above numbered declaration is hereby amended to include Independence County in the State of Arkansas as a disaster area due to damages caused by severe storms, flooding, and landslides, and to establish the incident period for this disaster as beginning April 19, 2004, and continuing through May 18, 2004.

All other information remains the same, i.e., the deadline for filing applications for physical damage is July 6, 2004.

(Catalog of Federal Domestic Assistance Program Nos. 59008)

Dated: My 25, 2004.
Herbert L. Mitchell,
Associate Administrator for Disaster Assistance.

[FR Doc. 04-12272 Filed 5-28-04; 8:45 am]

BILLING CODE 8025-01-P